DEPARTMENT OF AGRICULTURE

Rural Housing Service

7 CFR Part 3560

[Docket No.: RHS-23-MFH-0013]

RIN 0575-AD36

Updates to the Off-Farm Labor Housing (Off-FLH), Loan and Grant Rates and Terms; Clarification of Grant Agreement Terms; Announcement of Enforcement Date

AGENCY: Rural Housing Service, U.S. Department of Agriculture (USDA).

ACTION: Final rule; announcement of enforcement date.

SUMMARY: On October 25, 2024, Rural Development's Multifamily Housing (MFH or Agency), an Agency of the United States Department of Agriculture (USDA), published a final rule. The final rule amended the current regulation for the Off-Farm Labor Housing (Off-FLH) program to clarify the grant agreement term and adopted the period of performance as required by Federal award information requirements. The changes clarified for applicants and grantees their obligations and requirements as Federal award recipients. The effective date set out in the preamble of the final rule was October 25, 2024 (the date the final rule published in the Federal Register). The effective date should have been November 25, 2024 (30 days after the final rule published in the Federal Register). This document sets November 25, 2024, as the enforcement date for the amendments in the October 25, 2024, final rule.

DATES: The enforcement date for the amendments to 7 CFR 3560.5668 in the final rule published at 89 FR 85035 on October 25, 2024, is November 25, 2024.

FOR FURTHER INFORMATION CONTACT: Christa Lindsey, Finance and Loan Analyst, United States Department of Agriculture Rural Housing Service, Multifamily Housing Production and Preservation Division; telephone number: (352) 538-5747; email address: mfh.programsupport@usda.gov.

SUPPLEMENTARY INFORMATION: On October 25, 2024, RHS published a final rule amending 7 CFR 3560.5668. RHS incorrectly established the effective date as October 25, 2024. The intention was for the final rule to become effective on November 25, 2024. Because the amendments in the rule were incorporated into the CFR on October 25, 2024, RHS is announcing in this document that enforcement of, and compliance with, the amended regulations is November 25, 2024.

Joaquin Altoro,
Administrator, Rural Housing Services.

[FR Doc. 2024-26638 Filed 11-14-24; 8:45 am]

BILLING CODE P